DEPARTMENT OF LABOR

Employment and Training Administration

[TA-W-38,693 and NAFTA-04514]

Summit Timber Company Darrington, WA, Notice of Affirmative Determination Regarding Application for Reconsideration

By letter of May 14, 2001, the company requested administrative reconsideration of the Department's negative determination regarding eligibility to apply for Trade Adjustment Assistance (TAA) and North American Free Trade Agreement-Transitional Adjustment Assistance (NAFTA-TAA), applicable to workers and former workers of the subject firm. The denial notices were signed on April 6, 2001, and were published in the Federal Register on May 2, 2001 (66 FR 22006) and (66 FR 22007), respectively.

The company supplied an additional list of customers which was not supplied during the initial investigation. The company believes these customers may be importing softwood lumber during the relevant period.

Conclusion

After careful review of the application, I conclude that the claim is of sufficient weight to justify reconsideration of the Department of Labor's prior decision. The application is, therefore, granted.

Signed at Washington, DC, this 24th day of September, 2001.
Edward A. Tomchick,
Director, Division of Trade Adjustment Assistance.

[FR Doc. 01-26356 Filed 10-18-01; 8:45 am]

BILLING CODE 4510-30-M